NUCLEAR REGULATORY COMMISSION

[NRC-2012-0174]

Biweekly Notice, Applications and Amendments to Facility Operating Licenses and Combined Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from June 28, 2012 to July 11, 2012. The last biweekly notice was published on July 10, 2012 (77 FR 40647).

ADDRESSES: You may access information and comment submissions related to this document, which the NRC possesses and are publicly available, by searching on http://www.regulations.gov under Docket ID NRC-2012-0174. You may submit comments by any of the following methods:

• Federal Rulemaking Web site: Go to http://www.regulations.gov and search for Docket ID NRC-2012-0174. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0174 when contacting the NRC about the availability of information regarding this document. You may access information related to this document, which the NRC possesses and are publicly available, by any of the following methods:

• Federal Rulemaking Web Site: Go to http://www.regulations.gov and search for Docket ID NRC-2012-0174.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0174 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in Title 10 of the Code of Federal Regulations (10 CFR) 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139; August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the NRC's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Energy Northwest, Docket No. 50-397, Columbia Generating Station, Benton County, Washington

Date of amendment request: January 9, 2012.

Description of amendment request: The proposed amendment would change the format of the Operating License (OL) and Technical Specifications (TS) resulting from a change in the word processing programs and the adoption of TSTF-GG-05-01, “Writer's Guide for Plant-Specific Improved Technical Specification,” Revision 1. In addition to these administrative changes, the licensee proposed editorial changes that do not result in changes to the technical or operating requirements.

Basis for proposed no significant hazards consideration determination: As required by 10 CFR 50.91(a), the licensee has provided its analysis of the issue of no significant hazards consideration, which is presented below:

1. Does the proposed change involve a significant increase in the probability or consequence of an accident previously evaluated?

Response: No.

The Columbia TS have been reformatted to conform to TSTF-GG-05-01 and the TS and OL have been converted to a different word processing program. The impacts of these administrative changes are discussed in Section 2.0 [of the “Description and Evaluation of the Proposed TS Changes” section] and do not affect how plant equipment is operated or maintained. The specific proposed editorial changes are also detailed in Section 2.0 and do not impact the intent or substance of the OL or TS. There are no changes to the physical plant or analytical methods.

The proposed amendment involves administrative and editorial changes only. The proposed amendment does not impact any accident initiators, analyzed events, or assumed mitigation of accident or transient events. The proposed changes do not involve the addition or removal of any equipment or any design changes to the facility. The proposed changes do not affect any plant operations, design functions, or analyses that verify the capability of structures, systems, and components (SSCs) to perform a design function. The proposed changes do not change any of the accidents previously evaluated in the FSAR [Final Safety Analysis Report]. The proposed changes do not affect SSCs, operating procedures, and administrative controls that have the function of preventing or mitigating any of these accidents.

Therefore, the proposed changes do not represent a significant increase in the probability or consequences of an accident previously evaluated.

2. Does the proposed change create the possibility of a new or different kind of accident from any accident previously evaluated?

Response: No.

The proposed amendment only involves administrative and editorial changes. No actual plant equipment or accident analyses will be affected by the proposed changes. The proposed changes will not change the design function or operation of any SSCs. The proposed changes will not result in any new failure mechanisms, malfunctions, or accident initiators not considered in the design and licensing bases. The proposed amendment does not impact any accident initiators, analyzed events, or assumed mitigation of accident or transient events.

Therefore, this proposed change does not create the possibility of an accident of a new or different kind than previously evaluated.

3. Does the proposed change involve a significant reduction in a margin of safety?

Response: No.

The proposed amendment only involves administrative and editorial changes. The proposed change does not involve any physical changes to the plant or alter the manner in which plant systems are operated, maintained, modified, tested, or inspected. The proposed change does not alter the manner in which safety limits, limiting safety system settings or limiting conditions for operation are determined.

The safety analysis acceptance criteria are not affected by this change. The proposed change will not result in plant operation in a configuration outside the design basis. The proposed change does not adversely affect systems that respond to safely shutdown the plant and to maintain the plant in a safe shutdown condition.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street, NW., Washington, DC 20006-3817.

NRC Branch Chief: Michael T. Markley.

FirstEnergy Nuclear Operating Company (FENOC), et al., Docket No. 50-440, Perry Nuclear Power Plant, Unit 1 (PNPP), Lake County, Ohio

Date of amendment request: February 22, 2012.

Description of amendment request: The proposed amendment would modify PNPP's Technical Specifications (TS) 3.10.1, and the associated TS Bases, to expand its scope to include provisions for temperature excursions greater than 200 degrees Fahrenheit (°F) as a consequence of inservice leak and hydrostatic testing, and as a consequence of scram time testing initiated in conjunction with an inservice leak or hydrostatic test, while considering operational conditions to be in Mode 4. This change is consistent with Nuclear Regulatory Commission (NRC) approved Revision 0 to Technical Specification Task Force (TSTF) Improved Standard TS Change Traveler, TSTF-484, “Use of TS 3.10.1 for Scram Time Testing Activities.”

The NRC issued a “Notice of Availability of Model Application on Technical Specification Improvement to Modify Requirements Regarding LCO [Limited Conditions of Operation] 3.10.1, Inservice Leak and Hydrostatic Testing Operation Using Consolidated Line Item Improvement Process,” associated with TSTF-484, in the Federal Register on October 27, 2006 (71 FR 63050). The NRC also issued a Federal Register notice on August 21, 2006 (71 FR 48561), that provided a model safety evaluation and a model no significant hazards consideration (NSHC) determination related to the modification of requirements regarding LCO 3.10.1, “Inservice Leak and Hydrostatic Testing Operation.” In its application dated February 22, 2012, the licensee affirmed the applicability of the model NSHC determination.

Basis for proposed no significant hazards consideration determination: As required by Title 10 of the Code of Federal Regulations (10 CFR) 50.91(a), the licensee has provided its analysis of the issue of no significant hazards consideration, which is presented below:

1. Does the proposed change involve a significant increase in the probability or consequences of an accident previously evaluated?

Response: No.

Technical Specifications currently allow for operation at greater than 200 °F while imposing MODE 4 requirements in addition to the secondary containment requirements required to be met. Extending the activities that can apply this allowance will not adversely impact the probability or consequences of an accident previously evaluated.

Therefore, the proposed change does not involve a significant increase in the probability or consequences of an accident previously evaluated.

2. Does the proposed change create the possibility of a new or different kind of accident from any accident previously evaluated?

Response: No.

Technical Specifications currently allow for operation at greater than 212 °F while imposing MODE 4 requirements in addition to the secondary containment requirements required to be met. No new operational conditions beyond those currently allowed by LCO 3.10.1 are introduced. These changes do not involve a physical alteration of the plant (i.e., no new or different type of equipment will be installed) or a change in the methods governing normal plant operation. In addition, the changes do not impose any new or different requirements or eliminate any existing requirements. The changes do not alter assumptions made in the safety analysis. The proposed changes are consistent with the safety analysis assumptions and current plant operating practice.

Therefore, the proposed change does not create the possibility of a new or different kind of accident from any accident previously evaluated.

3. Does the proposed change involve a significant reduction in a margin of safety?

Response: No.

Technical Specifications currently allow for operation at greater than 212 °F while imposing MODE 4 requirements in addition to the secondary containment requirements required to be met. Extending the activities that can apply this allowance will not adversely impact any margin of safety. Allowing completion of inspections and testing and supporting completion of scram time testing initiated in conjunction with an inservice leak or hydrostatic test prior to power operation results in enhanced safe operations by eliminating unnecessary maneuvers to control reactor temperature and pressure.

Therefore, the proposed change does not result in any reduction in a margin of safety.

Based on the above, FENOC concludes that the proposed change presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the requested amendment involves no significant hazards consideration.

Attorney for licensee: David W. Jenkins, Attorney, FirstEnergy Corporation, Mail Stop. A-GO-15, 76 South Main Street, Akron, OH 44308.

NRC Branch Chief: Jacob I. Zimmerman.

NextEra Energy Seabrook, LLC Docket No. 50-443, Seabrook Station, Unit 1, Rockingham County, New Hampshire

Date of amendment request: May 14, 2010, as supplemented August 24, 2010, September 16, 2011, March 15, 2012, and July 2, 2012.

Description of amendment request: The license amendment request was originally noticed in the Federal Register on July 13, 2010 (75 FR 39979). This license amendment request was re-noticed in the Federal Register on April 17, 2012 (77 FR 22815). This notice is being reissued in its entirety to include a revised description of the amendment request. The proposed changes would revise the Seabrook Station Technical Specifications (TSs) governing the Containment Enclosure Emergency Air Cleanup System (CEEACS). The proposed amendment would change TS Surveillance Requirement (SR) 4.6.5.1.d.4 so that it will demonstrate integrity of the containment enclosure building rather than operability of CEEACS. The proposed amendment relocates SR 4.6.5.1.d.4 with modifications to new SR 4.6.5.2.b. The proposed amendment adds a Note and Actions to TS 3.6.5.2. Additionally, the proposed amendment makes some minor wording changes, deletes a definition, and removes a moot footnote.

Basis for proposed NSHC determination: As required by 10 CFR 50.91(a), the licensee has provided its analysis of the issue of no significant hazards consideration. The NRC staff has reviewed the licensee's analysis against the standards of 10 CFR 50.92(c). The NRC staff's review is presented below:

1. The proposed change does not involve a significant increase in the probability or consequences of an accident previously evaluated.

The proposed change does not impact the physical function of plant structures, systems, or components (SSCs) or the manner in which SSCs perform their design function. The proposed changes neither adversely affect accident initiators or precursors, nor alter design assumptions. The proposed changes do not alter or prevent the ability of operable SSCs to perform their intended function to mitigate the consequences of an initiating event within the assumed acceptance limits.

This change is a revision to the TSs SRs for the CEEACS, which is a mitigation system designed to prevent uncontrolled releases of radioactivity into the environment. The proposed amendment would change TS SR 4.6.5.1.d.4 so that it will demonstrate integrity of the containment enclosure building rather than operability of CEEACS. The proposed amendment relocates SR 4.6.5.1.d.4 with modifications to new SR 4.6.5.2.b. The CEEACS is not an initiator or precursor to any accident previously evaluated.

Therefore, the probability of any accident previously evaluated is not increased.

2. The proposed change does not create the possibility of a new or different kind of accident from any accident previously evaluated.

The proposed change will not impact the accident analysis. The changes will not alter the requirements of the CEEACS or its function during accident conditions, and no new or different accidents result from the proposed changes to the TSs.

The changes do not involve a physical alteration of the plant (i.e., no new or different type of equipment will be installed) or a significant change in the method of plant operation. The changes do not alter assumptions made in the safety analysis. Therefore, this request does not create the possibility of a new or different kind of accident from any accident previously evaluated.

3. The proposed change does not involve a significant reduction in a margin of safety.

Margin of safety is associated with confidence in the ability of the fission product barriers (i.e., fuel cladding, reactor coolant system pressure boundary, and containment structure) to limit the level of radiation dose to the public. The proposed changes do not involve a significant change in the method of plant operation, and no accident analyses will be affected by the proposed changes. Additionally, the proposed changes will not relax any criteria used to establish safety limits, will not relax any safety system settings, and will not relax the bases for any limiting conditions for operation. The safety analysis acceptance criteria are not affected by this change. The proposed change will not result in plant operation in a configuration outside the design bases. The proposed change does not adversely affect systems that respond to safely shutdown the plant and to maintain the plant in a safe shutdown condition.

Therefore, these proposed changes do not involve a significant reduction in a margin of safety.

The NRC staff has reviewed the licensee's analysis and, based on this review, it appears that the three standards of 50.92(c) are satisfied. Therefore, the NRC staff proposes to determine that the amendment request involves NSHC.

Attorney for licensee: M.S. Ross, Florida Power & Light Company, P.O. Box 14000, Juno Beach, FL 33408-0420.

NRC Branch Chief: Meena Khanna.

Northern States Power Company—Minnesota, Docket No. 50-263, Monticello Nuclear Generating Plant, Wright County, Minnesota

Date of amendment request: May 8, 2012.

Description of amendment request: The licensee proposed to revise the Technical Specifications (TS), Section 3.3.1.I, “Reactor Protection System (RPS) Instrumentation,” requirements pertaining to the Average Power Range Monitors (APRMs). Specifically, the licensee proposed to add a time period for restoration when the absolute difference between the APRM channels and the calculated thermal power exceeds the limit before declaring the channels inoperable.

Basis for proposed no significant hazards consideration determination: As required by 10 CFR 50.91(a), the licensee has provided its analysis of the issue of no significant hazards consideration (NSHC) analysis, which is reproduced below:

1. Does the proposed change involve a significant increase in the probability or consequences of an accident previously evaluated?

Response: No.

The proposed change provides time for restoration when the APRMs do not meet the limit of SR [Surveillance Requirement] 3.3.1.1.2. The APRM system is not an initiator of or a precursor to any accident or transient. Plant design is not being modified by the proposed change. The capability of the APRMs to perform their required functions under these circumstances is not degraded since the safety analyses include the power uncertainty.

As a result, the probability of any accident previously evaluated is not significantly increased. The consequences of any accident previously evaluated [using] the requested Completion Time are no different [than that using] the current Completion Time. As a result, the probability or consequences of an accident previously evaluated are not significantly increased.

2. Does the proposed change create the possibility of a new or different kind of accident from any accident previously evaluated?

Response: No.

The proposed change to the TS requirements for the APRM system do not introduce any new accident precursors and do not involve any physical plant alterations or changes in the methods governing normal plant operation that could initiate a new or different kind of accident. The changes do not alter assumptions made in the safety analysis and are consistent with the safety analysis assumptions. The proposed amendment does not alter the intended function of the APRM system and does not adversely affect the ability of the system to provide core protection.

Therefore, the proposed change does not create the possibility of a new or different kind of accident from any previously evaluated.

3. Does the proposed change involve a significant reduction in a margin of safety?

Response: No.

This change does not involve a significant reduction in a margin of safety since the extended time is small and allows for operator consideration of plant conditions, personnel availability, and appropriate response.

Margin of safety is related to confidence in the ability of the fission product barriers (fuel cladding, reactor coolant system, and primary containment) to perform their design functions during and following postulated accidents. The proposed amendment does not alter setpoints or limits established or assumed by the accident analyses. The TSs will continue to require operability of these APRM functions to provide core protection for postulated reactivity insertion events occurring during power operating conditions, consistent with the plant safety analyses. This change is consistent with plant design and does not change the actual TS operability requirements; thus, previously evaluated accidents are not affected by this proposed change.

Therefore, the proposed changes do not involve a significant reduction in a margin of safety.

The NRC staff has reviewed the licensee's analysis and concludes that the three standards of 10 CFR 50.92(c) are satisfied. Therefore, the NRC staff proposes to determine that the proposed amendment involves no significant hazards consideration.

Attorney for the licensee: Peter M. Glass, Assistant General Counsel, Xcel Energy Services, Inc., 414 Nicollet Mall, Minneapolis, MN 55401.

NRC Branch Chief: Istvan Frankl, Acting.

South Carolina Electric and Gas Company, South Carolina Public Service Authority, Docket No. 50-395, Virgil C. Summer Nuclear Station, Unit 1 (VCSNS), Fairfield County, South Carolina

Date of amendment request: June 29, 2012.

Description of amendment request: The proposed change adds Notes to the VCSNS Unit 1 Technical Specification 3.5.4, for the refueling water storage tank (RWST) to allow administrative control of the seismically qualified RWST/non-seismic spent fuel pool (SFP) purification loop interface. This change would only be applicable for the next two fuel cycles.

Basis for proposed no significant hazards consideration determination: As required by 10 CFR 50.91(a), the licensee has provided its analysis of the issue of no significant hazards consideration, which is presented below:

1. Does the proposed change involve a significant increase in the probability or consequences of an accident that has previously been evaluated?

Response: No.

The SFP Purification Loop is not credited for safe shutdown of the plant or accident mitigation. A combination of design and administrative controls ensure that the SFP Purification Loop maintains RWST boron concentration and water volume requirements whenever the contents of the RWST are processed through the system. Since the RWST will continue to perform its safety function and meet all surveillance requirements, overall system performance is not affected, assumptions previously made in evaluating the consequences of the accident are not altered, and the consequences of the accident are not increased.

Therefore, the proposed change does not involve a significant increase in the probability or consequences of an accident previously evaluated.

2. Does the proposed change create the possibility of a new or different kind of accident of malfunction that has not previously been evaluated?

Response: No.

Contingent upon manual operator action as described above, a SFP Purification Loop line break will not result in a loss of the RWST safety function. The Engineering Information Request (EIR) evaluation supports that operator action can be taken within sufficient time to isolate the RWST from the SFP Purification Loop during postulated accidents. The 3 [inch] SFP Purification Loop is not currently included in the Auxiliary Building flood calculation. The issue was previously evaluated and the bounding flood rates (generally in the 600 gpm [gallons per minute] to 725 gpm range) were evaluated for the Auxiliary Building. The calculated leak rate of 474 gpm remains within these limits.

Therefore, the proposed change does not create the possibility of a new or different kind of accident from any previously evaluated.

3. Does the proposed change involve a significant reduction in a margin of safety?

Response: No.

The SFP Purification Loop is not credited for safe shutdown of the plant or accident mitigation. Contingent upon manual operator action as described above, a SFP Purification Loop line break will not result in a loss of the RWST safety function. The EIR evaluation supports that operator action can be taken within sufficient time to isolate the RWST from the SFP Purification Loop during postulated accidents. Therefore, the proposed change does not involve a significant reduction in a margin of safety.

Based on the above, SCE&G concludes that the proposed amendment presents no significant hazards consideration under the standards set forth in 10 CFR 50.92(c), and, accordingly, a finding of “no significant hazards consideration” is justified.

The NRC staff has reviewed the licensee's analysis and, based on this review, it appears that the three standards of 10 CFR 50.92(c) are satisfied.

Therefore, the NRC staff proposes to determine that the amendment request involves no significant hazards consideration.

Attorney for licensee: J. Hagood Hamilton, Jr., South Carolina Electric & Gas Company, Post Office Box 764, Columbia, South Carolina 29218.

NRC Branch Chief: Nancy L. Salgado.

Tennessee Valley Authority, Docket Nos. 50-327 and 50-328, Sequoyah Nuclear Plant, Units 1 and 2, Hamilton County, Tennessee

Date of amendment request: May 23, 2012 (TS-SQN-12-01).

Description of amendment request: The proposed amendment would revise Technical Specification (TS) 3/4.8.1 to include a surveillance requirement (SR) to demonstrate the required offsite circuits OPERABLE at least once per 18 months by manually and automatically transferring the power supply to a 6.9 KiloVolt (kV) unit board from the normal supply to the alternate supply. This change is necessary as a result of the planned modifications to the plant design and operating configuration that will allow use of the unit station service transformers (USSTs) as a power supply to an offsite circuit.

Basis for proposed no significant hazards consideration determination: As required by 10 CFR 50.91(a), the licensee has provided its analysis of the issue of no significant hazards consideration, which is presented below:

1. Does the proposed amendment involve a significant increase in the probability or consequence of an accident previously evaluated?

Response: No.

The offsite circuits and their associated emergency loads are accident mitigating features. As such, testing of the transfer capability between the normal and alternate power supplies is not associated with a potential accident-initiating mechanism. Therefore, the changes do not affect accident or transient initiation or consequences. The probability or consequences of previously evaluated accidents will not be significantly affected by the addition of the proposed offsite power source or surveillance requirement. Verification of the capability to transfer power from the USSTs to the CSSTs [common station service transformers] demonstrates the availability of the offsite circuit to perform its accident mitigation functions as assumed in the accident analyses. Therefore, the proposed changes do not involve a significant increase in the probability or consequences of an accident previously evaluated.

2. Does the proposed amendment create the possibility of a new or different kind of accident from any accident previously evaluated?

Response: No.

The proposed changes do not require any new or different accidents to be postulated, since no changes are being made to the plant that would introduce any new accident causal mechanisms. This license amendment request does not impact any plant systems in a manner that would create a new or different kind of accident; nor does it have any impact on any accident mitigating systems that would significantly degrade the plant's response to an accident previously evaluated.

Therefore, the proposed changes do not create the possibility of a new or different kind of accident from any accident previously evaluated.

3. Does the proposed amendment involve a significant reduction in a margin of safety?

Response: No.

The proposed plant modifications will allow an offsite circuit configuration where the USSTs are capable of supplying normal power, and alternate power is supplied by CSST A or CSST C. These design changes require reinstatement of the TS SR to demonstrate the capability to automatically transfer the power supply to each 6.9 kV Unit Board from the normal supply to the alternate supply. The proposed changes to the unit power operating configuration do not alter the assumptions contained in the safety analyses regarding the availability of the offsite circuits. The proposed changes do not adversely impact the redundancy or availability requirements of offsite power supplies or change the ability of the plant to cope with station blackout events. Therefore, the proposed changes do not involve a significant reduction in a margin of safety.

The NRC staff has reviewed the licensee's analysis and, based on this review, it appears that the three standards of 50.92(c) are satisfied. Therefore, the NRC staff proposes to determine that the amendment request involves no significant hazards consideration.

Attorney for licensee: General Counsel, Tennessee Valley Authority, 400 West Summit Hill Drive, 6A West Tower, Knoxville, Tennessee 37902.

NRC Branch Chief: Douglas A. Broaddus.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Carolina Power and Light Company, et al., Docket No. 50-261, H.B. Robinson Steam Electric Plant, Unit 2, Darlington County, South Carolina

Date of application for amendment: February 10, 2012.

Brief description of amendment: The amendment revised the Technical Specification (TS) surveillance requirements for addressing a missed surveillance, and is consistent with the U.S. Nuclear Regulatory Commission approved Revision 6 of Technical Specification Task Force (TSTF) Standard TSs Change Traveler TSTF-358, “Missed Surveillance Requirements.”

Date of issuance: July 6, 2012.

Effective date: As of date of issuance and shall be implemented within 120 days.

Amendment No.: 229.

Renewed Facility Operating License No. DPR-23: Amendment changed the license and TSs.

Date of initial notice in Federal Register: April 17, 2012 (77 FR 22810).

The Commission's related evaluation of the amendment is contained in a Safety Evaluation dated July 6, 2012.

No significant hazards consideration comments received: No.

Dominion Nuclear Connecticut, Inc., Docket No. 50-336, Millstone Power Station, Unit 2, New London County, Connecticut

Date of application for amendment: September 21, 2011, as supplemented by letter dated February 24, 2012.

Brief description of amendment: The amendment revises Technical Specification surveillance requirements (SRs) for snubbers to conform to the revised inservice inspection program, move the specific SRs of TS 3/4.7.8, “Snubbers,” to the “Snubber Examination, Testing, and Service Life Monitoring Program,” add a reference to the program in the administrative controls section, and make administrative changes to TS 3/4.7.8.

Date of issuance: June 28, 2012.

Effective date: As of the date of issuance, and shall be implemented within 60 days.

Amendment No.: 310.

Renewed Facility Operating License No. DPR-65: Amendment revised the License and Technical Specifications.

Date of initial notice in Federal Register: November 29, 2011 (76 FR 73730).

The supplemental letters contain clarifying information, did not change the scope of the license amendment request, did not change the NRC staff's initial proposed finding of no significant hazards consideration determination, and did not expand the scope of the original Federal Register notice.

The Commission's related evaluation of the amendment is contained in a Safety Evaluation dated June 28, 2012.

No significant hazards consideration comments received: No.

Exelon Generation Company, LLC, Docket No. 50-461, Clinton Power Station, Unit 1, DeWitt County, Illinois

Date of application for amendment: August 15, 2011, as supplemented by letter dated February 13, 2012.

Brief description of amendment: The amendment revises the Limiting Condition for Operation (LCO) 3.8.1, “AC Sources—Operating,” through a reduction to the maximum steady state voltage criteria for safety-related 4.16 kV buses from 4580 V to 4300 V in certain Technical Specification (TS) Section 3.8.1 Surveillance Requirements.

Date of issuance: May 22, 2012.

Effective date: As of the date of issuance and shall be implemented within 30 days.

Amendment No.: 199.

Facility Operating License No. NPF-62: The amendment revised the Technical Specifications and License.

Date of initial notice in Federal Register: October 18, 2011 (76 FR 64391).

The February 13, 2012, supplement, contained clarifying information and did not change the NRC staff's initial proposed finding of no significant hazards consideration.

The Commission's related evaluation of the amendment is contained in a Safety Evaluation dated May 22, 2012.

No significant hazards consideration comments received: No.

Florida Power and Light Company, et al., Docket No. 50-335, St. Lucie Plant, Unit 1, St. Lucie County, Florida

Date of application for amendment: November 22, 2010, as supplemented by letters dated February 25, 2011, March 3, March 14, March 22, April 1, April 21, May 17, May 18, May 19 (three letters), May 24, May 27, May 31 (two letters), June 16, June 22, July 5, July 8, July 22, August 5, August 8, August 12, August 18, August 25 (two letters), August 31, September 2 (two letters), September 8 (two letters), September 22, September 23, September 27, September 29, September 30, October 10, October 14, October 20, October 21, October 27, October 31 (six letters), November 1, November 23, November 29, December 1, December 2, December 14, December 27, 2011, January 2, 2012, January 10, January 14, January 25, February 11, February 21, February 29 (three letters), March 6 (two letters), March 8, March 15, March 16, March 22, and March 26, 2012.

Brief description of amendment: The proposed amendments would increase the licensed core power level for St. Lucie Unit 1 from 2070 megawatts thermal (MWt) to 3020 MWt. This represents a net increase in the core thermal power of approximately 11.85 percent, including a 10-percent power uprate and a 1.7 percent measurement uncertainty recapture, over the current licensed thermal power level and is defined as an extended power uprate. The proposed amendments would change the renewed facility operating license and the technical specifications (TSs) to support operation at the increased core thermal power level, including changes to the maximum licensed reactor core thermal power, reactor core safety limits, and reactor protection system and engineered safety feature actuation system limiting safety system settings. Additional TS changes include reactor coolant system heatup and cooldown limitations, safety injection tank pressure, hot leg safety injection flow, accumulator and refueling water storage tank boron concentrations, main steam safety valve lift settings, condensate storage tank volume, emergency diesel generator fuel storage and core operating limits report references. A complete list of the proposed TS changes and the licensee's basis for change can be found in Attachment 1 of the licensee's application (Agencywide Documents and Management System Accession No. ML103560422).

Date of issuance: July 9, 2012.

Effective date: This license amendment is effective as of its date of issuance and shall be implemented within 60 days.

Amendment No.: 213.

Renewed Facility Operating License No. DPR-67: Amendment revised the Operating License and the Technical Specifications.

Date of initial notice in Federal Register: June 9, 2011 (76 FR 33789).

The supplemental letters provided additional information that clarified the application and did not expand the scope of the application as originally noticed and published in the Federal Register.

The Commission's related evaluation of the amendment is contained in a Safety Evaluation dated July 9, 2012.

No significant hazards consideration comments received: No.

Luminant Generation Company LLC, Docket Nos. 50-445 and 50-446, Comanche Peak Nuclear Power Plant, Units 1 and 2, Somervell County, Texas

Date of amendment request: August 1, 2011, as supplemented by letters dated August 17 and November 9, 2011.

Brief description of amendment: The amendment adopted the NRC-approved Technical Specifications Task Force traveler TSTF-425, Revision 3, “Relocate Surveillance Frequencies to Licensee Control—RITSTF Initiative 5b.” Specifically, the amendment relocates most frequencies of periodic surveillances from each unit's TS to a licensee-controlled program, the Surveillance Frequency Control Program (SFCP), and imposes requirements for the new SFCP in the Administrative Controls section of the TS.

Date of issuance: June 29, 2012.

Effective date: As of the date of issuance and shall be implemented within 180 days from the date of issuance.

Amendment Nos.: Unit 1—156; Unit 2—156.

Facility Operating License Nos. NPF-87 and NPF-89: The amendment revised the Facility Operating Licenses and Technical Specifications.

Date of initial notice in Federal Register: October 4, 2011 (76 FR 61397), which addresses the changes proposed by letters dated August 1 and August 17, 2012. The supplemental letter dated November 9, 2011, provided additional information that clarified the application, did not expand the scope of the application as originally noticed, and did not change the staff's original proposed no significant hazards consideration determination as published in the Federal Register.

The Commission's related evaluation of the amendments is contained in a Safety Evaluation dated June 29, 2012.

No significant hazards consideration comments received: No.

Luminant Generation Company LLC, Docket Nos. 50-445 and 50-446, Comanche Peak Nuclear Power Plant, Unit 1 and 2, Somervell County, Texas

Date of amendment request: December 13, 2011.

Brief description of amendments: The amendments modified Technical Specification (TS) 3.7.2, “Main Steam Isolation Valves (MSIVs),” and TS 3.7.3, “Feedwater Isolation Valves (FIVs) and Feedwater Control Valves (FCVs) and Associated Bypass Valves,” in accordance with previously approved Technical Specification Task Force (TSTF) Change Traveler TSTF-491, Revision 2, by relocating the closure times for MSIVs, FIVs, FCVs, and associated bypass valves to the Technical Requirements Manual (TRM). The availability of TSTF-491, Revision 2, was announced in the Federal Register on December 29, 2006 (71 FR 78472), as part of the Consolidated Line Item Improvement Process (CLIIP).

Date of issuance: June 29, 2012.

Effective date: As of the date of issuance and shall be implemented within 120 days from the date of issuance.

Amendment Nos.: Unit 1—157; Unit 2—157.

Facility Operating License Nos. NPF-87 and NPF-89: The amendments revised the Facility Operating Licenses and Technical Specifications.

Date of initial notice in Federal Register: January 24, 2012 (77 FR 3511).

The Commission's related evaluation of the amendments is contained in a Safety Evaluation dated June 29, 2012.

No significant hazards consideration comments received: No.

South Carolina Electric and Gas Company, South Carolina Public Service Authority, Docket No. 50-395, Virgil C. Summer Nuclear Station, Unit 1, Fairfield County, South Carolina

Date of application for amendment: October 12, 2011.

Brief description of amendment: The amendment authorizes revision of the Final Safety Analysis Report (FSAR) to reflect deletion of five high head safety injection (HHSI) containment isolation valves from the local leak rate test program on the basis that they are in lines that are closed outside of containment.

Date of issuance: July 9, 2012.

Effective date: This license amendment is effective as of the date of its issuance.

Amendment No.: 191.

Renewed Facility Operating License No. NPF-12: Amendment revises the License.

Date of initial notice in Federal Register: December 13, 2011 (76 FR 77570).

The Commission's related evaluation of the amendment is contained in a Safety Evaluation dated July 9, 2012.

No significant hazards consideration comments received: No.

Tennessee Valley Authority, Docket No. 50-328, Sequoyah Nuclear Plant, Unit 2, Hamilton County, Tennessee

Date of application for amendment: July 15, 2011, as supplemented on October 20, 2011 (TS-SQN-2011-01).

Brief description of amendment: The proposed amendment revised the Technical Specifications (TSs) requirements for steam generator (SG) tube inspections to reflect the replacement steam generators (RSGs) to be installed during refueling outage 18 presently scheduled for the fall of 2012. Previous changes to the TSs to reflect the Technical Specification Task Force (TSTF) Standard Technical Specification Traveler, TSTF-449, “Steam Generator Tube Integrity,” Revision 4, were approved by the U.S. Nuclear Regulatory Commission (NRC) on May 22, 2007. The changes proposed in this amendment reflect the inspection requirements of TSTF-449, Revision 4. The RSG tubes will be made of Alloy 690 thermally treated (TT) material, and the existing SGs have Alloy 600 tubes. The revisions to TSs are required because the inspection frequency for Alloy 690 TT tube material, as defined in TSTF-449, differs from the inspection frequency for Alloy 600, and the tube repair processes and products in the existing TSs are not applicable to the RSGs.

Date of issuance: July 10, 2012.

Effective date: As of the date of issuance and shall be implemented upon startup from fall 2012 refueling outage after completing the installation of new steam generators.

Amendment No.: 323.

Facility Operating License No. DPR-79: Amendment revised the TSs.

Date of initial notice in Federal Register: September 6, 2011 (76 FR 55131). The supplement letter dated October 20, 2011, provided additional information that clarified the application, did not expand the scope of the application as originally noticed, and did not change the staff's original proposed no significant hazards consideration determination.

The Commission's related evaluation of the amendment is contained in a Safety Evaluation dated July 10, 2012.

No significant hazards consideration comments received: No.

Dated at Rockville, Maryland, this 13th day of July 2012.
For the Nuclear Regulatory Commission.
Michele G. Evans,
Director, Division of Operating Reactor Licensing, Office of Nuclear Reactor Regulation.

[FR Doc. 2012-17869 Filed 7-23-12; 8:45 am]

BILLING CODE 7590-01-P